DEPARTMENT OF THE INTERIOR

Bureau of Land Management

[UT-912-02-1120-PG-24-1A]

Notice of Resource Advisory Council Meeting

AGENCY: Bureau of Land Management, Interior.

ACTION: Notice of Utah Resource Advisory Council (RAC) Meeting.

SUMMARY: The purpose of this notice is to announce a Resource Advisory Council Meeting scheduled for August 27, 2002, Provo, Utah.

Primary agenda item for this meeting will be a report from the Resource Advisory Council subgroup to the RAC on the status of the Raptor Science Team's report.

The meeting will be held at the Provo Marriott Hotel (Maple Room), 101 West 100 North, Provo, Utah from 9 until 3. From 2:30 p.m.-3 p.m. a public comment period is scheduled where members of the public may address the Council. Written comments may be mailed to the Bureau of Land Management at the address listed below. All meetings are open to the public; however, transportation, lodging, and meals are the responsibility of the participating public.

FOR FURTHER INFORMATION CONTACT: Sherry Foot, Special Programs Coordinator, Utah State Office, Bureau of Land Management, 324 South State Street, Salt Lake City, UT 84111; phone (801) 539-4195.

Dated: July 24, 2002.
Robert A. Bennett,
Associate State Director.

[FR Doc. 02-19288 Filed 7-30-02; 8:45 am]

BILLING CODE 4310-$$-M